Proclamation 7425 of April 10, 2001

National D.A.R.E. Day, 2001

By the President of the United States of America

A Proclamation

Today, we recognize Drug Abuse Resistance Education (D.A.R.E.), the largest and most widely known substance abuse prevention and anti-violence curriculum in America. For over 18 years, D.A.R.E. has brought specially trained community police officers into America's classrooms to teach children how to resist destructive peer pressure and to live productive drug- and violence-free lives. Every day, millions of children across the United States participate in the instruction given in the D.A.R.E. drug prevention curriculum.

Parents, teachers, community leaders, law enforcement officials, and fellow students have an important role to play in keeping our children away from illegal drugs. Research has shown that ongoing reinforcement of drug prevention skills at home and at school play a critical role in decreasing the likelihood of drug use by our youth. This year, D.A.R.E. has pledged to reach out to thousands of parents with a new parent-specific curriculum to help them talk with their kids about drugs.

Today, we recognize D.A.R.E. as a useful partnership between the research community, educators, law enforcement, parents, and students, and we commend D.A.R.E. officers for their dedicated efforts to help educate the children of America about the importance of remaining drug- and violence-free.

NOW, THEREFORE, I, GEORGE W. BUSH, President of the United States of America, by virtue of the authority vested in me by the Constitution and laws of the United States, do hereby proclaim April 12, 2001, as National D.A.R.E. Day. I call upon our youth, parents, educators, and all people of the United States to observe this day with appropriate activities.

IN WITNESS WHEREOF, I have hereunto set my hand this tenth day of April, in the year of our Lord two thousand one, and of the Independence of the United States of America the two hundred and twenty-fifth.

B

[FR Doc. 01-9344

Filed 4-11-01; 11:59 am]

Billing code 3195-01-P